DEPARTMENT OF HEALTH AND HUMAN SERVICES

Food and Drug Administration

21 CFR Part 573

[Docket No. FDA-2017-F-2130]

Food Additives Permitted in Feed and Drinking Water of Animals; Formic Acid

AGENCY: Food and Drug Administration, HHS.

ACTION: Final rule; technical amendment.

SUMMARY: The Food and Drug Administration (FDA) is amending the food additive regulations for a required labeling statement for use of formic acid in complete feed for swine and poultry. This action is being taken to improve the accuracy and clarity of the regulations.

DATES: This rule is effective December 27, 2018.

FOR FURTHER INFORMATION CONTACT: Chelsea Trull, Center for Veterinary Medicine (HFV-224), Food and Drug Administration, 7519 Standish Pl., Rockville, MD 20855, 240-402-6729, chelsea.trull@fda.hhs.gov.

SUPPLEMENTARY INFORMATION:

I. Background

FDA is amending the food additive regulations for a required labeling statement in 21 CFR 573.480 Formic acid for use of formic acid in complete feed for swine and poultry. In error, we did not revise all parts of the regulation necessary to reflect the approval of BASF Corp.'s FAP 2301 (83 FR 20, January 2, 2018). These revisions are entirely within the approved conditions of use of formic acid under FAP 2301. This action is being taken to improve the accuracy and clarity of the regulations.

Publication of this document constitutes final action under the Administrative Procedures Act (5 U.S.C. 553). FDA has determined that notice and public comment are unnecessary because this amendment to the regulations provides only technical changes to correct an inaccurate statement and is nonsubstantive.

List of Subjects in 21 CFR Part 573

Animal feeds, Food additives.

Therefore, under the Federal Food, Drug, and Cosmetic Act, and the Public Health Service Act, and under the authority delegated to the Commissioner of Food and Drugs, 21 CFR part 573 is amended as follows:

PART 573—FOOD ADDITIVES PERMITTED IN FEED AND DRINKING WATER OF ANIMALS

1. The authority citation for part 573 continues to read as follows:

Authority: 21 U.S.C. 321, 342, 348.

§ 573.480 [Amended]

2. In § 573.480, amend paragraph (b) introductory text by removing “complete swine and poultry feeds” and in its place adding “complete feed for swine and poultry” and paragraph (b)(4)(ii) by removing “swine” both times it appears.

Dated: December 18, 2018.
Leslie Kux,
Associate Commissioner for Policy.

[FR Doc. 2018-27966 Filed 12-26-18; 8:45 am]

BILLING CODE 4164-01-P